DEPARTMENT OF TRANSPORTATION

Pipeline and Hazardous Materials Safety Administration

[Docket: PHMSA-98-4957]

Request for Public Comments and Office of Management and Budget Approval of Existing Information Collection Requirement

AGENCY: Pipeline and Hazardous Materials Safety Administration (PHMSA), U.S. Department of Transportation (DOT).

ACTION: Notice and request for comments.

SUMMARY: In compliance with the Paperwork Reduction Act of 1995 (PRA), this notice announces that PHMSA forwarded an Information Collection Request to the Office of Management and Budget (OMB) for an extension of the currently approved collection of information “Incorporation by Reference of Industry Standard on Leak Detection” (2137-0598). The purpose of this notice is to invite the public to submit comments on the request to OMB.

DATES: Submit comments on or before August 16, 2007.

ADDRESSES: Send comments directly to the Office of Management and Budget, Office of Information and Regulatory Affairs, Attn: Desk Office for the Department of Transportation, 725 17th Street, NW., Washington, DC 20503.

FOR FURTHER INFORMATION CONTACT: L.E. Herrick at (202) 366-5523, or by e-mail at: le.herrick@dot.gov.

SUPPLEMENTARY INFORMATION: The hazardous liquid pipeline safety regulations require operators that elect to use software-based Computer Monitoring System (CPM) leak detection systems to comply with the American Petroleum Institute's (API) 1130 standard (49 CFR 195.134). API 1130 provides guidance for operating, maintaining, and testing software-based CPM systems. Hazardous liquid operators, with software-based CPM systems, must maintain records documenting the operation, maintenance, and testing of those systems. PHMSA, through the incorporation of this industry standard, will be able to continue to ensure that appropriate technology is used to maximize safety in the pipeline industry.

Pursuant to 44 U.S.C. 3506(c)(2)(A) of the PRA, PHMSA is required to obtain OMB approval for all information collections. The term “information collection” includes all work related to the preparing and disseminating of information in accordance with the recordkeeping requirements. PHMSA published a notice providing a 60 day period for comments on these information collection renewals in the Federal Register on May 29, 2007 (72 FR 29578), and received no comments. PHMSA is now forwarding the information collection request to OMB and providing an additional 30 days for comments. PHMSA invites comments on whether the proposed information collection is necessary for the proper performance of the functions of DOT. The comments should address (1) whether the information will have practical utility; (2) the accuracy of DOT's estimate about the information collection burden; (3) ways to enhance the quality, utility, and clarity of the information collection; and (4) ways to minimize the burden of the information collection on respondents, including the use of automated collection techniques or other forms of information technology. PHMSA estimates the burden of these requirements as follows:

Type of Information Collection Request: Renewal of existing collection.

Title of Information Collection: Incorporation by Reference of Industry Standard on Leak Detection.

Respondents: 50.

Estimated Total Annual Burden Hours on Respondents: 100.

Estimated Cost: $6,475.

Issued in Washington, DC, on July 9, 2007.
Florence L. Hamn,
Director of Regulations, Office of Pipeline Safety.

[FR Doc. E7-13767 Filed 7-16-07; 8:45 am]

BILLING CODE 4910-60-P